DEPARTMENT OF LABOR

Employment and Training Administration

[TA-W-70,115]

Senco Brands, Inc., fka Senco Products, Inc., Including the On-Site Leased Workers of Manpower, Inc., Express Personnel Services and, Commercial Construction Management and Resources (CCMR), Cincinnati, OH; Amended Certification Regarding Eligibility To Apply for Worker Adjustment Assistance

In accordance with section 223 of the Trade Act of 1974, as amended (“Act”), 19 U.S.C. 2273, the Department of Labor issued a Certification of Eligibility to apply for Worker Adjustment Assistance on December 10, 2009, applicable to workers of Senco Brands, Inc., fka Senco Products, Inc., including the on-site leased workers of Manpower, Inc., and Express Personnel Services, Cincinnati, Ohio. The notice was published in the Federal Register on January 25, 2010 (75 FR 3930).

At the request of the State Agency, the Department reviewed the certification for workers of the subject firm. The workers are engaged in activities related to the production of automatic nail guns, nails, and staples.

The company reports that workers leased from Commercial Construction Management and Resources (CCMR) were employed on-site at the Cincinnati, Ohio location of Senco Brands, Inc., fka Senco Products, Inc. The Department has determined that these workers were sufficiently under the control of the subject firm to be considered leased workers.

Based on these findings, the Department is amending this certification to include workers leased from Commercial Construction Management and Resource (CCMR) working on-site at the Cincinnati, Ohio location of Senco Brands, Inc., fka Senco Products, Inc.

The amended notice applicable to TA-W-70,115 is hereby issued as follows:

All workers of Senco Brands, Inc., fka Senco Products, Inc., including the on-site leased workers of Manpower, Inc., Express Personnel Services, and Commercial Construction Management and Resources (CCMR), Cincinnati, Ohio, who became totally or partially separated from employment on or after May 18, 2008, through December 10, 2011, and all workers in the group threatened with total or partial separation from employment on date of certification through two years from the date of certification, are eligible to apply for adjustment assistance under Chapter 2 of Title II of the Trade Act of 1974, as amended.

Signed in Washington, DC, this 8th day of April, 2010.
Elliott S. Kushner,
Certifying Officer, Division of Trade Adjustment Assistance.

[FR Doc. 2010-8884 Filed 4-16-10; 8:45 am]

BILLING CODE 4510-FN-P